DEPARTMENT OF COMMERCE

National Oceanic and Atmospheric Administration

[I.D. 121704B]

Western Pacific Fishery Management Council; Public Meetings

AGENCY: National Marine Fisheries Service (NMFS), National Oceanic and Atmospheric Administration (NOAA), Commerce.

ACTION: Notice of public meetings

SUMMARY: The Western Pacific Fishery Management Council (Council) will hold meetings of its Commercial, Recreational, Subsistence/Indigenous, and Ecosystem and Habitat Advisory Panel members throughout the western pacific in January and February 2005.

DATES: The Advisory Panel members from the Commonwealth of the Northern Mariana Islands (CNMI) will meet at the Pedro T. Tenorio Multipurpose Center on January 11-12, 2005 from 9 a.m to 5 p.m. each day. The Advisors from Guam will meet at the Guam Hyatt Regency Hotel on January 13-14, 2005 from 9 a.m. to 5 p.m. each day. Advisors from Hawaii will meet at the Council office conference room on January 26-27, 2005 from 9:00 a.m. to 5:00 p.m. each day. Advisors from American Samoa will meet at the American Samoa Department of Marine and Wildlife Resources on February 2-3, 2005 from 9:00 a.m. to 5:00 p.m. each day.

ADDRESSES: CNMI Governor Pedro P. Tenorio Multipurpose Center, Office of the Governor, Susupe, P.O. Box 10007, Saipan, MP 96950; telephone: 670-664-1014. Guam Hyatt Regency Hotel, 1155 Pale San Vitores Road, Tumon, Guam 96913-4206, Telephone 671-647-1234. Council Office Conference Room, Western Pacific Fishery Management Council, 1164 Bishop St., Suite 1400, Honolulu, HI 96813; telephone: 808-522-8220. American Samoa Department of Marine & Wildlife Resources, P.O. Box 3730, Pago Pago, AS 96799, Telephone: 684-633-5102.

FOR FURTHER INFORMATION CONTACT: Kitty M. Simonds, Executive Director; telephone: 808-522-8220.

SUPPLEMENTARY INFORMATION: The Advisory Panel members from their respective areas will be provided an orientation on the Council process, legislative mandates, advisory group roles and responsibilities and discuss fishery issues of concern in their area.

The agenda for the Advisory Panel meetings will include the items listed below:

Day 1

(1) Introduction of attendees

(2) Overview of Council and advisory bodies

(3) Responsibilities of Council staff and island coordinators

(4) Legislative mandates and directives, including Magnuson Stevens Act, National Environmental Policy Act, Endangered Species Act, Marine Mammal Protection Act

(5) Overview of Council process and program

(6) Schedule of up coming events (Calendar of events on island meetings, Council Honolulu meeting, etc.)

(7) Review of June 2004 Advisory Panel Recommendations and Status

(8) Discussion and wrap-up

Day 2

(9) Major fishery program initiatives

a. Fishery Ecosystem Plans

b. NWHI management

c. Protected Species mitigation, conservation and management

d. Fishery Data Collection

e. Indigenous Program

f. Status of American Samoa Longline fishery management

g. CNMI Bottomfish Management Amendment

h. International fishery management

(10) Report on new fishery issues and activities

(11) Advisor Discussion and Recommendations

(12) Other business

The order in which the agenda items are addressed may change. The AP will meet as late as necessary to complete scheduled business. Although non-emergency issues not contained in this agenda may come before the AP for discussion, those issues may not be the subject of formal action during these meetings. Advisory Panel action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, 808-522-8220 (voice) or 808-522-8226 (fax), at least 5 days prior to the meeting date.

Dated: December 17, 2004.
Alan D. Risenhoover,
Acting Director, Office of Sustainable Fisheries, National Marine Fisheries Service.

[FR Doc. E4-3767 Filed 12-21-04; 8:45 am]

BILLING CODE 3510-22-S